DEPARTMENT OF THE INTERIOR

Bureau of Safety and Environmental Enforcement (BSEE)

[Docket ID BSEE-2016-0013; OMB Control Number 1014-0026; 16XE1700DX EEEE500000 EX1SF0000.DAQ000]

Information Collection Activities: Application for Permit To Modify (APM) and Supporting Documentation; Proposed Collection; Comment Request

ACTION: 60-day notice.

SUMMARY: To comply with the Paperwork Reduction Act of 1995 (PRA), the Bureau of Safety and Environmental Enforcement (BSEE) is inviting comments on a collection of information that we will submit to the Office of Management and Budget (OMB) for review and approval. The information collection request (ICR) concerns a renewal to the paperwork requirements in the regulations under 30 CFR 250 where it pertains to an Application for Permit to Modify (APM) and all supporting documentation.

DATES: You must submit comments by November 21, 2016.

ADDRESSES: You may submit comments by either of the following methods listed below.

• Electronically go to http://www.regulations.gov. In the Search box, enter BSEE-2016-0013 then click search. Follow the instructions to submit public comments and view all related materials. We will post all comments.

• Email kye.mason@bsee.gov, fax (703) 787-1546, or mail or hand-carry comments to the Department of the Interior; Bureau of Safety and Environmental Enforcement; Regulations and Standards Branch; ATTN: Nicole Mason; 45600 Woodland Road, Sterling, VA 20166. Please reference ICR 1014-0026 in your comment and include your name and return address.

FOR FURTHER INFORMATION CONTACT: Nicole Mason, Regulations and Standards Branch, (703) 787-1607, to request additional information about this ICR.

SUPPLEMENTARY INFORMATION:

Title: 30 CFR 250, Application for Permit to Modify (APM) and all supporting documentation.

Form(s): BSEE-0124.

OMB Control Number: 1014-0026.

Abstract: The Outer Continental Shelf (OCS) Lands Act (OCSLA) at 43 U.S.C. 1334 authorizes the Secretary of the Interior to prescribe rules and regulations necessary for the administration of the leasing provisions of that Act related to mineral resources on the OCS. Such rules and regulations will apply to all operations conducted under a lease, right-of-way, or a right-of-use and easement. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

In addition to the general rulemaking authority of the OCSLA at 43 U.S.C. 1334, section 301(a) of the Federal Oil and Gas Royalty Management Act (FOGRMA), 30 U.S.C. 1751(a), grants authority to the Secretary to prescribe such rules and regulations as are reasonably necessary to carry out FOGRMA's provisions. While the majority of FOGRMA is directed to royalty collection and enforcement, some provisions apply to offshore operations. For example, section 108 of FOGRMA, 30 U.S.C. 1718, grants the Secretary broad authority to inspect lease sites for the purpose of determining whether there is compliance with the mineral leasing laws. Section 109(c)(2) and (d)(1), 30 U.S.C. 1719(c)(2) and (d)(1), impose substantial civil penalties for failure to permit lawful inspections and for knowing or willful preparation or submission of false, inaccurate, or misleading reports, records, or other information. Because the Secretary has delegated some of the authority under FOGRMA to BSEE, 30 U.S.C. 1751 is included as additional authority for these requirements.

The Independent Offices Appropriations Act (31 U.S.C. 9701), the Omnibus Appropriations Bill (Pub. L. 104-133, 110 Stat. 1321, April 26, 1996), and OMB Circular A-25, authorize Federal agencies to recover the full cost of services that confer special benefits. Under the Department of the Interior's implementing policy, BSEE is required to charge fees for services that provide special benefits or privileges to an identifiable non-Federal recipient above and beyond those which accrue to the public at large. APMs are subject to cost recovery and BSEE regulations specify a service fee for this request.

These authorities and responsibilities are among those delegated to BSEE. The regulations at 30 CFR 250 stipulate the various requirements that must be submitted with a Form BSEE-0124 (APM). The form and the numerous submittals that are included and/or attached to the form are the subject of this collection. This request also covers any related Notices to Lessees and Operators (NTLs) that BSEE issues to clarify, supplement, or provide additional guidance on some aspects of our regulations

Some responses are mandatory and some are required to obtain or retain a benefit. No questions of a sensitive nature are asked. BSEE will protect proprietary information according to the Freedom of Information Act (5 U.S.C. 552) and DOI's implementing regulations (43 CFR 2); 30 CFR part 250.197, Data and information to be made available to the public or for limited inspection; and 30 CFR part 252, OCS Oil and Gas Information Program.

The BSEE uses the information to ensure safe well completion, workover, and decommissioning operations and to protect the human, marine, and coastal environment. Among other things, BSEE specifically uses the information to ensure: The well completion, workover, and decommissioning unit is fit for the intended purpose; equipment is maintained in a state of readiness and meets safety standards; each well completion, workover, and decommissioning crew is properly trained and able to promptly perform well-control activities at any time during well operations; and compliance with safety standards. The current regulations provide for safe and proper field or reservoir development, resource evaluation, conservation, protection of correlative rights, safety, and environmental protection. We also review well records to ascertain whether the operations have encountered hydrocarbons or H2S and to ensure that H2S detection equipment, personnel protective equipment, and training of the crew are adequate for safe operations in zones known to contain H2S and zones where the presence of H2S is unknown.

We use the information to determine the conditions of the site to avoid hazards inherent in well completions, workovers, and decommissioning operations. In addition, except for proprietary data, BSEE is required by the OCSLA to make available to the public certain information that is submitted.

The information on the APM form (BSEE-0124) is used to evaluate and approve the adequacy of the equipment, materials, and/or procedures that the lessee or operator plans to use during drilling plan modifications, changes in major drilling equipment, and plugging back. In addition, except for proprietary data, BSEE is required by the OCSLA to make available to the public certain information submitted on BSEE-0124. The information on the form is as follows:

Heading: Identify the well name, lease operator, type of revision and timing of the proposed modifications.

Well at Total Depth/Surface: Identify the unique location (area, block and lease of the proposed activity).

Proposed or Completed Work: Information identifying the specific activity, revision or modification for which approval is requested. This includes specific identification of equipment, engineering, and pressure test data needed by BSEE to ascertain that operations will be conducted in a manner that ensures the safety of personnel and protection of the environment.

Question Information: Responses to questions serve to ascertain compliance with applicable BSEE regulations and requirements and adherence to good operating practices.

Frequency: On occasion and as required by regulations.

Description of Respondents: Potential respondents comprise Federal OCS oil, gas, or sulfur lessees and/or operators and holders of pipeline rights-of-way.

Estimated Reporting and Recordkeeping Hour Burden: The currently approved annual reporting burden for this collection is 9,770 hours and $361,625 non-hour costs. The following chart details the individual components and estimated hour burdens. In calculating the burdens, we assumed that respondents perform certain requirements in the normal course of their activities. We consider these to be usual and customary and took that into account in estimating the burden.

Citation 30 CFR 250 APM's | Reporting or recordkeeping requirement | Hour burden | Average number of annual responses | Annual burden hours (rounded)
| Non-hour cost burdens
Subparts D, E, F, H, P, Q | Submit APM plans (BSEE-0124). (This burden represents only the filling out of the form, the requirements are listed separately below) | 1 hour | 2,893 applications | 2,893
|  | 2,893 applications × $125 application fee = $361,625.
Subparts D, E, F, H, P, Q | Submit Revised APM plans (BSEE-0124). (This burden represents only the filling out of the form, the requirements are listed separately below) [no fee charged] | 1 hour | 1,551 applications | 1,551
Subtotal |  |  | 4,444 responses | 4,444
|  |  | $361,625 non-hour cost burdens.
Subpart A
125 | Submit evidence of your fee for services receipt | Exempt under 5 CFR 1320.3(h)(1) |  | 0
197 | Written confidentiality agreement | Exempt under 5 CFR 1320.5(d)(2) |  | 0
Subpart D
423(c)(3); 449(j); 449(k); 460(a); 465 | There are some regulatory requirements that give respondents the option of submitting with their APD or APM; industry advised us that when it comes to this particular subpart, they submit a Revised APD. There are no APM submittals under this subpart | Burden covered under 30 CFR 250, Subpart D—1014-0018. |  | 0
Subpart E
513(a) | Obtain written approval for well-completion operations. Submit the following information, which includes but not limited to: Request approval for the completion or if the completion objective or plans have changed; description of the well-completion procedures; statement of the expected surface pressure, and type and weight of completion fluids; schematic drawing; a partial electric log; H2S presence or if unknown | 1 hour | 181 submittals | 181
514(d) | Obtain approval to displace kill weight fluid with detailed step-by-step written procedures that include, but are not limited to: Number of barriers, tests, BOP procedures, fluid volumes entering and leaving wellbore procedures | 40 mins | 175 submittals | 117
515 | (a thru c) For completion operations, include the following BOP descriptions: Components, pressure ratings and test pressures; schematic; independent third-party verification and supporting documentation about blind-shear rams | 30 mins | 181 submittals | 91
| (d) When you use a subsea BOP stack, submit independent third-party verification about BOP stack requirements | 15 mins | 17 submittals | 4
| (e)(1), (2) Independent third-party qualifications and evidence/supporting documentation demonstrating their abilities | 20 mins | 192 submittals | 64
516(a) | Submit a well-control procedure that indicates how the annular preventer will be utilized, and the pressure limitations that will be applied during each mode of pressure control | 15 mins | 181 submittals | 45
517(d) | (8) Submit for approval test procedures, including how you will test each ROV function | 20 mins | 17 submittals | 6
| (9)(i) Submit for approval test [autoshear and deadman] procedures. Include all required documentation | 15 mins | 17 submittals | 4
526(a) | Submit a notification of corrective action of the diagnostic test | 15 mins | 68 notifications | 17
Subtotal of Subpart E |  |  | 1,046 responses | 529
Subpart F
613 | (a), (b) Request approval to begin other than normal workover, which includes description of procedures, changes in equipment, schematic, info about H2S, etc | 30 mins | 802 requests | 401
| (c) If completing to a new zone, submit reason for abandonment and statement of anticipated pressure data for new zone | 10 mins | 205 submittals | 34
| (d) Within 30 days after completing the well-workover operation, except routine operations, submit showing the work as performed | 15 mins | 762 submittals | 191
614(d) | Obtain approval to displace kill weight fluid with detailed step-by-step written procedures that include, but are not limited to: Number of barriers, tests, BOP procedures, fluid volumes entering and leaving wellbore procedures | 40 mins | 51 requests | 34
615 | (a thru c) For workover operations, include the following BOP descriptions with your submittal: Components, pressure ratings and test pressures; schematic; independent third-party verification and supporting documentation about blind-shear rams | 30 mins | 629 submittals | 315
| (d) When you use a subsea BOP stack, independent third-party verification about BOP stack requirements | 15 mins | 51 verifications | 13
| (e)(1), (2) Independent third-party qualifications and evidence/supporting documentation demonstrating their abilities | 20 mins | 576 submittals | 192
616(a) | Submit well-workover procedures how the annular preventer will be utilized and the pressure limitations that will be applied during each mode of pressure control | 20 mins | 629 procedures | 210
616(f)(4) | Obtain approval to conduct operations without downhole check valves, describe alternate procedures and equipment to conduct operations without downhole check valves | 15 mins | 273 approvals | 68
617(d), (h)(1+2) | Obtain approval: Stump test and include procedures; test procedures, including how you will test each ROV function and autoshear deadman; include required documentation; and utilization description | 40 mins | 51 approvals | 34
Subtotal of Subpart F |  |  | 4,029 responses | 1,492
Subpart H
801(h) | Request approval to temporarily remove safety device for non-routine operations | 10 mins | 55 approvals | 9
807(a) | Submit detailed information that demonstrates the SSSVs and related equipment capabilities re HPHT; include discussions of design verification analysis and validation, functional listing process, and procedures used; explain fit-for-service | 40 mins | 15 submittals | 10
Subtotal of Subpart H |  |  | 70 responses | 19
Subpart P
It needs to be noted that for Sulphur Operations, while there may be burden hours listed that are associated with some form of an APM submittal, we have not had any sulphur leases for numerous years, therefore, we are submitting minimal burden.
1618(a), (b) | Request approval/submit requests for changes in plans, changes in major drilling equipment, proposals to deepen, sidetrack, complete, workover, or plug back a well, or engage in similar activities; include but not limited to, detailed statement of proposed work changed; present state of well; after completion, a detailed report of all the work done and results | 30 mins | 1 plan | 1
1619(b) | Submit duplicate copies of the records of all activities related to and conducted during the suspension or temporary prohibition | 10 mins | 1 submittal | 1
1622(a), (b) | Obtain written approval to begin operations; include description of procedures followed; changes to existing equipment, schematic drawing; zones info re H2S, etc | 20 mins | 1 approval | 1
1622(c) | (2) Submit results of any well tests and a new schematic of the well if any subsurface equipment has been changed | 10 mins | 1 submittal | 1
Subtotal of Subpart P |  |  | 4 responses | 4
Subpart Q
1706(a) | Request approval of well abandonment operations | 20 mins | 710 requests | 237
1706(f) | (4) Request approval to conduct operations without downhole check valves, describe alternate procedures and equipment | 15 mins | 500 requests | 125
1707(d) | Submit and obtain approval of plan describing the stump test procedures | 10 mins | 50 submittals | 8
1707(h) | (1) Submit test procedures, including how you will test each ROV function for approval; include documentation and utilization description | 30 mins | 50 submittals | 25
1709 | Obtain approval to displace kill weight fluid with detailed step-by-step written procedures that include, but are not limited to: Number of barriers, tests, BOP procedures, fluid volumes entering and leaving wellbore procedures | 30 mins | 50 submittals | 25
1712; 1704(g) | (a), (b), (d), (f)(9 + 11), (g) Obtain and receive approval before permanently plugging a well or zone. Include in request, but not limited to, reason plugging well, with relevant information; well test and pressure data; type and weight of well control fluid; a schematic listing mud and cement properties; plus testing plans. Submit Certification by a Registered Professional Engineer of the well abandonment design and procedures; certify the design | 40 mins | 244 certifications | 163
| (c), (e), (f) Obtain and receive approval before permanently plugging a well or zone. Include in request, but not limited to max surface pressure and determination; description of work; well depth, perforated intervals; casing and tubing depths/details, plus locations, types, lengths, etc | 1.5 hours | 444 submittals | 666
1717; 1704(g) | Submit with a final well schematic, description, nature and quantities of material used; relating to casing string—description of methods used, size and amount of casing and depth | 1 hour | 434 submittals | 434
1721(a), (g), (h); 1704(g) | Submit the applicable information required to temporarily abandon a well for approval; after temporarily plugging a well, submit well schematic, description of remaining subsea wellheads, casing stubs, mudline suspension equipment and required information of this section; submit certification by a Registered Professional Engineer of the well abandonment design and procedures; certify design | 70 mins | 1,296 submittals | 1,512
1722(a), (d); 1704(g) | Request approval to install a subsea protective device | 30 mins | 15 requests/submittals | 8
| Submit a report including dates of trawling test and vessel used; plat showing trawl lines; description of operation and nets used; seafloor penetration depth; summary of results listed in this section; letter signed by witness of test | 1.5 hours |  | 23
1723(b); 1704(g) | Submit a request to perform work to remove casing stub, mudline equipment, and/or subsea protective covering | 20 mins | 150 requests | 50
1743(a); 1704(g) | Submit signed certification; date of verification work and vessel; area surveyed; method used; results of survey including debris or statement that no objects were recover; a post-trawling plot or map showing area | 1.25 hours | 5 certifications | 6
Subtotal of Subpart Q |  |  | 3,948 responses | 3,282
Total Burden |  |  | 13,524 responses | 9,770
|  |  | $361,625 non-hour cost burdens.

Estimated Reporting and Recordkeeping Non-Hour Cost Burden: We have identified one non-hour cost burden associated with the collection of information for a total of $361,625. The service fee of $125 is required to recover the Federal Government's processing costs of the APM. We have not identified any other non-hour cost burdens associated with this collection of information.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “. . . to provide notice . . . and otherwise consult with members of the public and affected agencies concerning each proposed collection of information . . .”. Agencies must specifically solicit comments to: (a) Evaluate whether the collection is necessary or useful; (b) evaluate the accuracy of the burden of the proposed collection of information; (c) enhance the quality, usefulness, and clarity of the information to be collected; and (d) minimize the burden on the respondents, including the use of technology.

Agencies must also estimate the non-hour paperwork cost burdens to respondents or recordkeepers resulting from the collection of information. Therefore, if you have other non-hour burden costs to generate, maintain, and disclose this information, you should comment and provide your total capital and startup cost components or annual operation, maintenance, and purchase of service components. For further information on this burden, refer to 5 CFR 1320.3(b)(1) and (2), or contact the Bureau representative listed previously in this notice.

We will summarize written responses to this notice and address them in our submission for OMB approval. As a result of your comments, we will make any necessary adjustments to the burden in our submission to OMB.

Public Availability of Comments: Before including your address, phone number, email address, or other personal identifying information in your comment, you should be aware that your entire comment—including your personal identifying information—may be made publicly available at any time. While you can ask us in your comment to withhold your personal identifying information from public review, we cannot guarantee that we will be able to do so.

BSEE Information Collection Clearance Officer: Nicole Mason, (703) 787-1607.

Dated: September 16, 2016.
Robert W. Middleton,
Deputy Chief, Office of Offshore Regulatory Programs.

[FR Doc. 2016-22845 Filed 9-21-16; 8:45 am]

BILLING CODE 4310-VH-P